NATIONAL COMMUNICATIONS SYSTEM

National Security Telecommunications Advisory Committee

AGENCY: National Communications System (NCS).

ACTION: Notice of meeting.

SUMMARY: A meeting of the President's National Security Telecommunications Advisory Committee will be held via conference call on Wednesday, July 14, 2003, from 11 a.m. to 1 p.m. The conference call will be closed to the public to allow for oral discussion on a pre-decisional Government document titled “Physical Security Assessment of Cyber Assets”, which is related to vulnerabilities of physical assets.

FOR FURTHER INFORMATION CONTACT: Telephone Ms. Marilyn Witcher, (703) 607-6214, or write the Manager, National Communications System, 701 South Court House Roads, Arlington, Virginia 22204-2198.

Nicholas E. Andre,
Federal Register Liaison Officer, National Communications System.

[FR Doc. 03-16706 Filed 7-1-03; 8:45 am]

BILLING CODE 5001-08-M